DEPARTMENT OF THE INTERIOR

Bureau of Land Management

[L13100000.PP0000.LLHQ310000.234; OMB Control No. 1004-0132]

Agency Information Collection Activities; Submission to the Office of Management and Budget for Review and Approval; Geothermal Resource Leases and Unit Agreements

AGENCY: Bureau of Land Management, Interior.

ACTION: Notice of Information Collection; request for comment.

SUMMARY: In accordance with the Paperwork Reduction Act of 1995 (PRA), the Bureau of Land Management (BLM) proposes to renew an information collection.

DATES: Interested persons are invited to submit comments on or before August 18, 2023.

ADDRESSES: Written comments and recommendations for this information collection request (ICR) should be sent within 30 days of publication of this notice to www.reginfo.gov/public/do/PRAMain. Find this particular information collection by selecting “Currently under 30-day Review—Open for Public Comments” or by using the search function.

FOR FURTHER INFORMATION CONTACT: To request additional information about this ICR, contact Jennifer Spencer by email at j35spenc@blm.gov, or by telephone at (307) 775-6261. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we invite the public and other Federal agencies to comment on new, proposed, revised and continuing collections of information. This helps the BLM assess impacts of its information collection requirements and minimize the public's reporting burden. It also helps the public understand BLM information collection requirements and ensure requested data are provided in the desired format.

A Federal Register notice with a 60-day public comment period soliciting comments on this collection of information was published on January 27, 2023 (88 FR 5373). No comments were received in response to that notice.

As part of our continuing effort to reduce paperwork and respondent burdens, we are again inviting the public and other Federal agencies to comment on the proposed ICR described below. The BLM is especially interested in public comment addressing the following:

(1) Whether the collection of information is necessary for the proper performance of the functions of the agency, including whether the information will have practical utility.

(2) The accuracy of our estimate of the burden for this collection of information, including the validity of the methodology and assumptions used.

(3) Ways to enhance the quality, utility, and clarity of the information to be collected; and

(4) How might the agency minimize the burden of the collection of information on those who are to respond, including the use of appropriate automated, electronic, mechanical, or other technological collection techniques or other forms of information technology, e.g., permitting electronic submission of response.

Comments submitted in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Bureau of Land Management (BLM) uses this information to issue geothermal leases in BLM-managed lands, and in national forests and other lands managed by the U.S. Forest Service (USFS). This OMB Control Number is currently scheduled to expire on July 31, 2023. The BLM request that OMB renew this OMB Control Number for an additional three (3) years.

Title of Collection: Geothermal Resource Leases and Unit Agreements (43 CFR parts 3200 and 3280).

OMB Control Number: 1004-0132.

Form Numbers: 3200-9, 3203-1, 3260-2, 3260-3, 3260-4, and 3260-5.

Type of Review: Extension of a currently approved collection.

Respondents/Affected Public: Businesses that wish to participate in the exploration, development, production, and utilization of geothermal resources on BLM-managed public lands, and lands managed by other Federal surface-management agencies.

Total Estimated Number of Annual Respondents: 1,827.

Total Estimated Number of Annual Responses: 1,827.

Estimated Completion Time per Response: Varies from 1 to 40 hours, depending on activity.

Total Estimated Number of Annual Burden Hours: 4,556.

Respondent's Obligation: Required to obtain or retain a benefit.

Frequency of Collection: On occasion, except for Form 3260-5, Monthly Report of Geothermal Operations, which is filed once a month.

Total Estimated Annual Nonhour Burden Cost: $633,410.

An agency may not conduct or sponsor and, notwithstanding any other provision of law, a person is not required to respond to a collection of information unless it displays a currently valid OMB control number.

The authority for this action is the Paperwork Reduction Act of 1995 (44 U.S.C. 3501 et seq.).

Darrin King,
Information Collection Clearance Officer.

[FR Doc. 2023-15229 Filed 7-18-23; 8:45 am]

BILLING CODE 4310-84-P